DEPARTMENT OF STATE

[Public Notice: 10015]

Biodiversity Beyond National Jurisdiction Public Meeting

AGENCY: Department of State.

ACTION: Notice of public meeting.

SUMMARY: The Department of State will hold an information session regarding issues related to a July United Nations meeting concerning marine biodiversity in areas beyond national jurisdiction.

DATES: The meeting will be held on June 13, 2017, 2:00 p.m.-3:30 p.m.

ADDRESSES: The meeting will be held at the Harry S. Truman Main State Building, Room 3940, 2201 C Street NW., Washington, DC 20520.

FOR FURTHER INFORMATION CONTACT: If you would like to participate in this meeting, please send your (1) name, (2) organization/affiliation, (3) email address, and (4) phone number, as well as any requests for reasonable accommodation, to Elizabeth Kim at KimEAB@state.gov or 202-647-4824. This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (STATE-33) and Security Records (State-36). Provision of this information is voluntary, but failure to provide accurate information may impede your ability to register for the event.

SUPPLEMENTARY INFORMATION: In July 2017, the United States will participate in a two-week meeting of the United Nations General Assembly (UNGA) Preparatory Committee on the conservation and sustainable use of marine biological diversity beyond areas of national jurisdiction. This fourth meeting of the Preparatory Committee will end a two-year process established by the UNGA to make substantive recommendations on the elements of a draft text of a legally binding instrument on the conservation and sustainable use of marine biological diversity in areas beyond national jurisdiction.

We will provide a brief overview of topics to be discussed at the upcoming UN meeting and will listen to your comments, concerns, and questions about these issues. The information obtained from this meeting and any subsequent related meetings will be used to help us prepare for U.S. participation in international meetings and specifically U.S. participation in the July meeting of the Preparatory Committee. Documents and other information related to the Preparatory Committee can be found on this United Nations Web site: www.un.org/depts/los/biodiversity/prepcom.htm.

Reasonable Accommodation: This meeting is physically accessible to people with disabilities. Requests for sign language interpretation or other reasonable accommodation should be directed to (see FOR FURTHER INFORMATION CONTACT) at least 5 days prior to the meeting date. Requests received after that date will be considered but might not be possible to fulfill.

Chever Voltmer,
Acting Director, Office of Ocean and Polar Affairs, Bureau of Oceans and International, Environmental and Scientific Affairs, Department of State.

[FR Doc. 2017-11480 Filed 6-2-17; 8:45 am]

BILLING CODE 4710-09-P